DEPARTMENT OF ENERGY

Federal Energy Regulatory Commission

[Project No. 12597-021; Project No. 12598-019]

Turnbull Hydro, LLC; Notice of Application Accepted for Filing, Soliciting Comments, Motions To Intervene and Protests, and Ready for Environmental Analysis; Soliciting Recommendations and Terms and Conditions for the Proposed Changes to the Transmission Line Routes

March 24, 2010.

Take notice that the following hydroelectric application has been filed with the Commission and is available for public inspection:

a. Type of Application: Amendment of License.

b. Project Nos.: 12597-021 and P-12598-019.

c. Date Filed: February 17, 2010, and supplemented March 17 and 23, 2010.

d. Applicant: Turnbull Hydro, LLC.

e. Name of Project: Lower and Upper Turnbull Drop, respectively.

f. Location: The projects are located on the Spring Valley Canal in Teton County, Montana.

g. Filed Pursuant to: Federal Power Act, 16 U.S.C. 791a-825r.

h. Applicant Contact: Mr. Ted Sorenson, Turnbull Hydro, LLC, 5203 South 11th East, Idaho Falls, ID 83404, (208) 522-8069.

i. FERC Contact: Any questions regarding this notice should be directed to Mr. Jeremy Jessup (202) 502-6779 or Jeremy.Jessup@ferc.gov.

j. Deadline for filing motions to intervene and protests, comments, recommendations, and preliminary terms and conditions (terms and conditions for transmission line routes only), is 60 days from the issuance of this notice; reply comments are due 105 days from the issuance date of this notice. All documents may be filed electronically via the Internet. See, 18 CFR 385.2001(a)(1)(iii) and the instructions on the Commission's Web site at http://www.ferc.gov under the “e-Filing” link. If unable to be filed electronically, documents may be paper-filed. To paper-file, an original and eight copies should be mailed to: Secretary, Federal Energy Regulatory Commission, 888 First Street, NE., Washington, DC 20426. For more information on how to submit these types of filings, please go to the Commissions Web site located at http://ferc.gov.filing-comments.asp.

Please include the project numbers (P-12597-021 and P-12598-019) on any comments, motions, recommendations, or preliminary terms and conditions filed.

k. Description of Request: At the Lower Turnbull Drop Project, the applicant proposes to (1) change the hydraulic capacity from 600 cfs to 750 cfs; (2) change the authorized installed capacity from 6,150 kW to 7,700 kW; and (3) change from two turbines to a single turbine. At the Upper Turnbull Drop Project, the applicant proposes to (1) change the hydraulic capacity from 600 cfs to 750 cfs; (2) change the authorized installed capacity from 4,100 kW to 5,300 kW; and (3) change from two turbines to a single turbine.

Additionally, at the Lower Turnbull Drop Project, the applicant proposes to (1) change the entire transmission line to 69 kV and eliminate the remote electrical substation and (2) change the length and location of the 69 kV transmission line. At the Upper Turnbull Drop Project, the applicant proposes to (1) change the entire transmission line to 69 kV and eliminate the remote electrical substation and (2) change the length and location of the 69 kV transmission line. The filing of terms and conditions (see section “o” below) are only being requested by this notice for the applicant's proposal regarding changes to the transmission line routes.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “PROTEST”, “MOTION TO INTERVENE”, “COMMENTS,” “REPLY COMMENTS,” “RECOMMENDATIONS,” or ” TERMS AND CONDITIONS” (transmission line routes only); (2) set forth in the heading the name of the applicant and the project numbers of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.34(b). All comments, motions to intervene or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Kimberly D. Bose,
Secretary.

[FR Doc. 2010-7144 Filed 3-30-10; 8:45 am]

BILLING CODE 6717-01-P